DEPARTMENT OF HEALTH AND HUMAN SERVICES

Centers for Disease Control and Prevention

[Program Announcement 03063]

Enhancement of HIV/AIDS Surveillance Activities and HIV Reference Laboratory Program in Malawi; Notice of Intent To Fund Single Eligibility Award

A. Purpose

The Centers for Disease Control and Prevention (CDC) announces the intent to fund fiscal year (FY) 2003 funds for a cooperative agreement program for the enhancement of HIV/AIDS surveillance activities and an HIV reference laboratory program in Malawi. The Catalog of Federal Domestic Assistance number for this program is 93.978.

B. Eligible Applicant

Assistance will be provided only to Malawi Ministry of Health and Population (MOHP) in Lilongwe, the capital of Malawi. The Ministry of Health and Population (MOHP) is a unique agency in the sovereign country of Malawi, charged with implementing health care and public health measures nationwide. There is no other agency in Malawi charged with planning and actually implementing health care and public health activities in the public sector. The MOHP of the Government of Malawi is the only agency in the country that conducts HIV surveillance.

Over the past 18 months, the National AIDS Commission (NAC), another branch of the Malawi Government, was temporarily given responsibility for surveillance at the national level. In 2003, this responsibility is moving back to the MOHP from the NAC. CDC has been providing financial and technical support to the NAC for surveillance and is now arranging through this Cooperative Agreement to provide a smooth transition of surveillance activities back to the MOHP. Currently, a transitional team from NAC and the surveillance unit at the MOHP have responsibility for surveillance. In 2003, this responsibility will move back to the MOHP from NAC.

CDC-GAP is relatively new in Malawi and has no other formal funding agreements with the MOHP. CDC GAP CDC looks forward to sharing its expertise in all areas of surveillance with the MOHP, the only national agency in the government of Malawi that has responsibility and authority to implement HIV/AIDS programs in the health sector.

The MOHP is located in Lilongwe, the capital of Malawi. The CHSU of the MOHP is located in Lilongwe, the capital of Malawi. CHSU is a well-established entity in the MOHP and has responsibility for preventive services, including surveillance, and for the national lab. The national lab has been without adequate resources and needs CDC's technical and financial support in order to fully perform its function as a national reference lab. This is critically important at this particular juncture as Malawi expects to get a large Global Fund award and will need the national reference lab functions in order to provide quality HIV services to the population using these funds.

C. Funding

Approximately $750,000 is available in FY 2003 to fund this award. It is expected that the award will begin on or before September 15, 2003, and will be made for a 12-month budget period within a project period of up to three years. Funding estimate may change.

D. Where To Obtain Additional Information

For general comments or questions about this announcement, contact:

Technical Information Management, CDC Procurement and Grants Office, 2920 Brandywine Road, Atlanta, GA 30341-4146, Telephone: 770-488-2700.

For technical questions about this program, contact: Margarett Davis, MD, MPH, Kang'ombe Building 8 West, Lilongwe, Malawi, Telephone Number: 265-1-775-188, Fax Number: 265-1-775-848, E-mail address: DavisM@malcdc.co.mw, C/o U.S. Embassy, P.O. Box 30016. Lilongwe 3, Malawi.

Dated: August 4, 2003.
Edward Schultz,
Acting Director, Procurement and Grants Office, Centers for Disease Control and Prevention.

[FR Doc. 03-20232 Filed 8-7-03; 8:45 am]

BILLING CODE 4163-18-P